GULF COAST ECOSYSTEM RESTORATION COUNCIL

[Docket No.: 112072018-1111- 05]

Notice of Proposed Subaward Under a Council-Selected Restoration Component Award

AGENCY: Gulf Coast Ecosystem Restoration Council.

ACTION: Notice.

SUMMARY: The Gulf Coast Ecosystem Restoration Council (Council) publishes notice of a proposed subaward from the National Oceanic and Atmospheric Administration Restoration Center, Department of Commerce to the National Fish and Wildlife Foundation, a nonprofit organization, for the purpose of implement restoration activities, conduct monitoring to assess restoration outcomes, engage in outreach and educational activities, and develop a hydrologic restoration project inventory for the Tampa Bay watershed. This subaward is in accordance with the Robinson Preserve Wetlands Restoration (Implementation) Award as approved in the Initial Funded Priority List.

FOR FURTHER INFORMATION CONTACT: Please send questions by email to raams_pgmsupport@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priority List, which is available on the Council's website at https://www.restorethegulf.gov/council-selected-restoration-component/funded-priorities-list, RESTORE Act funds in the amount of $1,790,546 will support the Robinson Preserve Wetlands Restoration (Implementation) Award to the National Oceanic and Atmospheric Administration Restoration Center (NOAA) Restoration Center. NOAA Restoration Center will provide a subaward in the amount of $1,624,625 to National Fish and Wildlife Foundation. to implement restoration activities, conduct monitoring to assess restoration outcomes, engage in outreach and educational activities, and develop a hydrologic restoration project inventory for the Tampa Bay watershed. When completed, the project will provide approximately 57.6 acres of coastal upland habitat and 60.6 acres of wetland, open water sub-tidal, and open freshwater habitats, for a total of 118.2 acres of restored productive habitat.

Keala J. Hughes,
Director of External Affairs & Tribal Relations, Gulf Coast Ecosystem Restoration Council.

[FR Doc. 2018-26906 Filed 12-11-18; 8:45 am]

BILLING CODE 6560-58-P